ENVIRONMENTAL PROTECTION AGENCY

[OPP-2002-0313; FRL-7280-9]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2002 until September 30, 2002 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are a federal or state government agency involved in administration of environmental quality programs (i.e., Departments of Agriculture, Environment, etc). Potentially affected entities may include, but are not limited to:

• Federal or State Government Entity, (NAICS 9241), i.e., Departments of Agriculture, Environment, etc.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2002-0313. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Arizona

Department of Agriculture

Specific: EPA authorized the use of metolachlor on spinach to control broadleaf weeds; September 6, 2002 to May 15, 2003. Contact: (Andrew Ertman)

Arkansas

State Plant Board

Specific: EPA authorized the use of emamectin benzoate on cotton to control beet armyworms and tobacco budworms; July 12, 2002 to September 30, 2002. Contact: (Andrea Conrath)

EPA authorized the use of spinosad on pastureland and rangeland to control fall armyworms and true armyworms; July 15, 2002 to December 31, 2002. Contact: (Andrew Ertman)

California

Environmental Protection Agency, Department of Pesticide Regulation

Specific: EPA authorized the use of fenhexamid on Bosc and Asian pears to control gray mold; July 16, 2002 to October 1, 2002. Contact: (Barbara Madden)

EPA authorized the use of imidacloprid on commercial stone fruit, almonds, and blueberries to control the glassy-winged sharpshooter; June 22, 2002 to June 22, 2003. Contact: (Andrew Ertman)

EPA authorized the use of carbofuran on cotton to control aphids; August 2, 2002 to October 30, 2002. Contact: (Dan Rosenblatt)

EPA authorized the use of zinc phosphide on alfalfa to control California and montane voles; September 9, 2002 to May 31, 2003. Contact: (Libby Pemberton)

Colorado

Department of Agriculture

Crisis: On June 4, 2002, for the use of sulfentrazone on potatoes to control broadleaf weeds. This program ended on July 1, 2002. Contact: (Andrew Ertman)

On June 20, 2002, for the use of metsulfuron-methyl on sorghum to control triazine-resistant broadleaf weeds. This program ended on August 25, 2002. Contact: (Andrew Ertman)

On June 6, 2002, for the use of permethrin on turnip greens to control flea beetles. This program ended on October 15, 2002. Contact: (Andrea Conrath)

Georgia

Department of Agriculture

Denial: On July 18, 2002, EPA denied the use of tebuconazole on cucurbits to control gummy stem blight disease. This request was denied because of the Agency's inability at this time to reach a “reasonable certainty of no harm” finding regarding health effects which may result if this use were to occur. Contact: (Barbara Madden).

Specific: EPA authorized the use of diuron on catfish ponds to control blue-green algae; September 10, 2002 to September 10, 2003. Contact: (Libby Pemberton)

Idaho

Department of Agriculture

Crisis: On June 21, 2002, for the use of azoxystrobin on chickpeas to control Ascochyta blight. This program ended on September 30, 2002. Contact: (Libby Pemberton)

Specific: EPA authorized the use of azoxystrobin on chickpeas to control Ascochyta blight; July 1, 2002 to September 30, 2002. Contact: (Libby Pemberton)

EPA authorized the use of cyfluthrin and chlorpyrifos-methyl on wheat to control the lesser grain borer; August 1, 2002 to July 31, 2003. Contact: (Andrew Ertman)

EPA authorized the use of cyfluthrin and chlorpyrifos-methyl on barley to control the lesser grain borer; August 1, 2002 to July 31, 2003. Contact: (Andrew Ertman)

EPA authorized the use of chlorine dioxide on stored potatoes to control late blight; August 31, 2002 to August 31, 2003. Contact: (Andrew Ertman)

Kansas

Department of Agriculture

Crisis: On July 8, 2002, for the use of fluroxypur on grain sorghum to control kochia. This program ended on July 23, 2002. Contact: (Libby Pemberton)

Specific: EPA authorized the use of bifenthrin on sorghum grown for seed to control banks grass mite; August 16, 2002 to September 30, 2002. Contact: (Andrea Conrath)

Louisiana

Department of Agriculture and Forestry

Crisis: On May 3, 2002, for the use of bifenthrin on sweet potatoes to control soil beetles and sweet potato weevils. This program is expected to end on November 30, 2002. Contact: (Andrea Conrath)

On May 6, 2002, for the use of sulfentrazone on sugarcane to control morning glories. This program is expected to end on December 31, 2002. Contact: (Andrew Ertman)

On May 31, 2002, for the use of methoxyfenozide on field corn to control Southwestern corn borer and Sugarcane borer. This program ended on August 15, 2002. Contact: (Barbara Madden)

Denial: On July 18, 2002, EPA denied the use of flumioxazin on cotton to control weeds. This request was denied because it did not meet the criteria of an urgent, non-routine situation based on the availability of registered alternatives. Contact: (Libby Pemberton).

Specific: EPA authorized the use of sulfentrazone on sugarcane to control morning glories; May 6, 2002 to December 31, 2002. Contact: (Andrew Ertman)

EPA authorized the use of carbofuran on rice to control rice weeil; June 19, 2002 to July 31, 2002. This request was originally granted due to reported failures of the registered alternative in controlling rice weevils. However, on July 24, 2002 this specific emergency exemption was revoked after additional information submitted to the Agency indicated the registered alternative had not failed. Additionally, EPA received compelling feedback from the public in response to the solicitation of comments about this program from the public in a June 27, 2002, Federal Register notice. The public, governmental organizations, and non- governmental organizations, overwhelmingly expressed their opposition to any ongoing use of granular carbofuran under this section 18. Contact: (Daniel Rosenblatt).

EPA authorized the use of methoxyfenozide on field corn to control Southwestern corn borer and Sugarcane borer; July 5, 2002 to August 15, 2002. Contact: (Barbara Madden)

EPA authorized the use of lambda-cyhalothrin on sugarcane to control sugarcane borers; July 12, 2002 to September 15, 2002. Contact: (Andrew Ertman)

EPA authorized the use of bifenthrin on sweet potatoes to control soil beetles and sweet potato weevils; July 19, 2002 to November 30, 2002. Contact: (Andrea Conrath)

EPA authorized the use of tebufenozide on sweet potatoes to control beet armyworms; July 25, 2002 to October 31, 2002. Contact: (Andrew Ertman)

Maryland

Department of Agriculture

Crisis: On August 6, 2002, for the use of diquat on private ponds to control weeds associated with the invasive snakehead fish. This program ended on October 31, 2002. Contact: (Andrea Conrath)

Specific: EPA authorized the use of metolachlor on spinach to control broadleaf weeds; September 6, 2002 to April 30, 2003. Contact: (Andrew Ertman)

Massachusetts

Massachusetts Department of Food and Agriculture

Crisis: On June 7, 2002, for the use of indoxacarb on cranberry to control weevils. This program ended on October 1, 2002. Contact: (Andrea Conrath)

Specific: EPA authorized the use of imidacloprid on blueberries to control oriental beetles; June 24, 2002 to August 15, 2002. Contact: (Andrew Ertman)

EPA authorized the use of imidacloprid on strawberries to control white grubs; July 1, 2002 to August 7, 2002. Contact: (Andrew Ertman)

Michigan

Michigan Department of Agriculture

Specific: EPA authorized the use of imidacloprid on blueberries to control Japanese beetle grubs and adults; June 11, 2002 to September 30, 2002. Contact: (Andrew Ertman)

Minnesota

Department of Agriculture

Specific: EPA authorized the use of lambda-cyhalothrin on wild rice to control rice worms; July 25, 2002 to September 10, 2002. Contact: (Andrew Ertman)

EPA authorized the use of chlorine dioxide on stored potatoes to control late blight; August 31, 2002 to August 31, 2003. Contact: (Andrew Ertman)

Mississippi

Department of Agriculture and Commerce

Denial: On July 18, 2002 EPA denied the use of flumioxazin on cotton to control weeds. This request was denied because it did not meet the criteria of an urgent, non-routine situation based on the availability of registered alternatives. Contact: (Libby Pemberton).

Specific: EPA authorized the use of emamectin benzoate on cotton to control beet armyworms and tobacco budworms; July 12, 2002 to September 30, 2002. Contact: (Andrea Conrath)

EPA authorized the use of bifenthrin on sweet potatoes to control soil beetles; July 19, 2002 to September 30, 2002. Contact: (Andrea Conrath)

EPA authorized the use of tebufenozide on sweet potatoes to control beet armyworms; August 29, 2002 to October 15, 2002. Contact: (Andrew Ertman)

Montana

Department of Agriculture

Crisis: On June 26, 2002, for the use of azoxystrobin on chickpeas to control Ascochyta blight. This program ended on August 15, 2002. Contact: (Libby Pemberton)

On July 8, 2002, for the use of azoxystrobin on safflower to control Alternaria leaf spot. This program ended on August 15, 2002. Contact: (Libby Pemberton)

Specific: EPA authorized the use of lambda-cyhalothrin on barley to control the Russian wheat aphid and the cereal leaf beetle; June 24, 2002 to July 30, 2002. Contact: (Andrew Ertman)

EPA authorize the use of azoxystrobin on chickpeas to control Ascochyta blight; July 1, 2002 to August 31, 2002. Contact: (Libby Pemberton)

EPA authorized the use of cyfluthrin and chlorpyrifos-methyl on wheat to control the lesser grain borer; August 1, 2002 to July 31, 2003. Contact: (Andrew Ertman)

EPA authorized the use of cyfluthrin and chlorpyrifos-methyl on barley to control the lesser grain borer; August 1, 2002 to July 31, 2003. Contact: (Andrew Ertman)

Nebraska

Department of Agriculture

Crisis: On May 21, 2002, for the use of sulfentrazone on potatoes to control broadleaf weeds. This program ended on July 1, 2002. Contact: (Andrew Ertman)

On July 19, 2002, for the use of azoxystrobin on chickpeas to control Ascochyta blight. This program ended on August 2, 2002. Contact: (Libby Pemberton)

Nevada

Department of Agriculture

Specific: EPA authorized the use of chlorine dioxide on stored potatoes to control late blight; September 10, 2002 to August 31, 2003. Contact: (Andrew Ertman)

New Jersey

Department of Environmental Protection

Crisis: On June 3, 2002, for the use of propyzamide on cranberries to control dodder. This program is expected to end on December 15, 2002. Contact: (Andrew Ertman)

Specific: EPA authorized the use of metolachlor on spinach to control broadleaf weeds; June 3, 2002 to May 1, 2003. Contact: (Andrew Ertman)

EPA authorized the use of halosulfuron-methyl on asparagus to control yellow nutsedge; July 5, 2002 to December 1, 2002. Contact: (Barbara Madden)

EPA authorized the use of propyzamide on cranberries to control dodder; July 18, 2002 to December 15, 2002. Contact: (Andrew Ertman)

North Carolina

Department of Agriculture

Crisis: On August 12, 2002, for the use of tebufenozide on sweet potatoes to control beet armyworms. This program is expected to end on November 15, 2002. Contact: (Andrew Ertman)

Specific: EPA authorized the use of diuron on catfish ponds to control blue-green algae; July 12, 2002 to November 30, 2002. Contact: (Libby Pemberton)

EPA authorized the use of tebufenozide on sweet potatoes to control beet armyworms; August 12, 2002 to November 15, 2003. Contact: (Andrew Ertman)

North Dakota

Department of Agriculture

Crisis: On July 10, 2002, for the use of azoxystrobin on safflower to control Alternaria leaf spot. This program ended on August 15, 2002. Contact: (Libby Pemberton)

On July 30, 2002, for the use of zeta-cypermethrin on flax to control grasshoppers. This program ended on September 15, 2002. Contact: (Libby Pemberton)

Specific: EPA authorized the use of azoxystrobin on chickpeas to control Ascochyta blight; July 1, 2002 to August 31, 2002. Contact: (Libby Pemberton)

Oregon

Department of Agriculture

Specific: EPA authorized the use of fludioxonil on peaches to control brown rot, gray mold, and Rhizopus rot; July 2, 2002 to September 30, 2002. Contact: (Andrew Ertman)

EPA authorized the use of fludioxonil on cherries to control brown rot, gray mold, and Rhizopus rot; July 2, 2002 to August 15, 2002. Contact: (Andrew Ertman)

EPA authorized the use of cyfluthrin and chlorpyrifos-methyl on wheat to control the lesser grain borer; August 1, 2002 to July 31, 2003. Contact: (Andrew Ertman)

EPA authorized the use of cyfluthrin and chlorpyrifos-methyl on barley to control the lesser grain borer; August 1, 2002 to July 31, 2003. Contact: (Andrew Ertman)

EPA authorized the use of ethoprop on baby mint to control garden symphylan; August 19, 2002 to September 15, 2002. Contact: (Dan Rosenblatt)

EPA authorized the use of chlorine dioxide on stored potatoes to control late blight; August 31, 2002 to August 31, 2003. Contact: (Andrew Ertman)

Pennsylvania

Department of Agriculture

Specific: EPA authorized the use of sulfentrazone on strawberries to control common groundsel; June 26, 2002 to December 15, 2002. Contact: (Andrew Ertman)

South Dakota

Department of Agriculture

Specific: EPA authorized the use of azoxystrobin on chickpeas to control Ascochyta blight; July 1, 2002 to August 31, 2002. Contact: (Libby Pemberton)

EPA authorized the use of cyfluthrin and chlorpyrifos-methyl on stored grains to control the lesser grain borer; July 24, 2002 to July 17, 2003. Contact: (Andrew Ertman)

Tennessee

Department of Agriculture

Specific: EPA authorized the use of carbofuran on cotton to control aphids; August 2, 2002 to October 30, 2002. Contact: (Dan Rosenblatt)

Texas

Department of Agriculture

Specific: EPA authorized the use of fenbuconazole on grapefruit to control greasy spot disease; August 9, 2002 to August 9, 2003. Contact: (Andrea Conrath)

EPA authorized the use of bifenthrin on sorghum grown for seed to control banks grass mite; August 16, 2002 to August 16, 2003. Contact: (Andrea Conrath)

EPA authorized the use of chlorine dioxide on stored potatoes to control late blight; August 31, 2002 to August 31, 2003. Contact: (Andrew Ertman)

EPA authorized the use of diuron on catfish ponds to control blue-green algae; September 10, 2002 to September 10, 2003. Contact: (Libby Pemberton)

Utah

Department of Agriculture

Crisis: On May 14, 2002, for the use of diflubenzuron on alfalfa to control grasshoppers and crickets. This program ended on October 31, 2002. Contact: (Andrea Conrath)

Specific: EPA authorized the use of diflubenzuron on alfalfa to control grasshoppers and crickets; September 13, 2002 to October 31, 2002. Contact: (Andrea Conrath)

Virginia

Department of Agriculture and Consumer Services

Specific: EPA authorized the use of tebufenozide on grapes to control Grape berry moth; July 5, 2002 to October 1, 2002. Contact: (Barbara Madden)

Washington

Department of Agriculture

Crisis: On June 21, 2002, for the use of azoxystrobin on chickpeas to control Ascochyta blight. This program ended on September 30, 2002. Contact: (Libby Pemberton)

Specific: EPA authorized the use of azoxystrobin on chickpeas to control Ascochyta blight; July 1, 2002 to September 30, 2002. Contact: (Libby Pemberton)

EPA authorized the use of zinc phosphide on timothy and timothy legume mixtures to control vole complex; July 25, 2002 to May 1, 2003. Contact: (Libby Pemberton)

EPA authorized the use of cyfluthrin and chlorpyrifos-methyl on wheat to control the lesser grain borer; August 1, 2002 to July 31, 2003. Contact: (Andrew Ertman)

EPA authorized the use of cyfluthrin and chlorpyrifos-methyl on barley to control the lesser grain borer; August 1, 2002 to July 31, 2003. Contact: (Andrew Ertman)

EPA authorized the use of chlorine dioxide on stored potatoes to control late blight; August 31, 2002 to August 31, 2003. Contact: (Andrew Ertman)

Wisconsin

Department of Agriculture, Trade, and Consumer Protection

Specific: EPA authorized the use of chlorine dioxide on stored potatoes to control late blight; August 31, 2002 to August 31, 2003. Contact: (Andrew Ertman)

B. Federal Departments and Agencies

Agriculture Department

Animal and Plant Health Inspector Service

Quarantine: EPA authorized the use of acetominophen in Guam and the Commonwealth of Northern Mariana Islands to control the invasive brown tree snake; July 17, 2002, to July 17, 2005. Contact: (Andrea Conrath)

Defense Department

Quarantine: EPA authorized the use of paraformaldehyde on United States Army, Medical Research Institute of Infectious Diseases (USAMRIID) facility to control infectious microorganisms from containment areas; July 24, 2002, to July 24, 2005. Contact: (Libby Pemberton)

List of Subjects

Environmental protection, Pesticides and pest.

Dated: November 16, 2002.
Debra Edwards,
Acting Director, Registration Division, Office of Pesticide Programs.

FR Doc. 02-30123 Filed 11-26-02; 8:45 am

BILLING CODE 6560-50-S